DEPARTMENT OF ENERGY

Federal Energy Regulatory Commission

Notice of Commission Staff Attendance

The Federal Energy Regulatory Commission (Commission) hereby gives notice that members of the Commission's staff may attend the following meetings related to the transmission planning activities of Public Service Company of Colorado, Tucson Electric Power Company, UNS Electric, Inc., Public Service Company of New Mexico, Arizona Public Service Company, El Paso Electric Company, Black Hills Power, Inc., Black Hills Colorado Electric Utility Company, LP, Cheyenne Light, Fuel, & Power Company, Arizona Public Service Company, and NV Energy, Inc.:

Planning Subcommittee Meeting, September 15, 2015, 9 a.m.-12 p.m. (MST)

Cost Allocation Subcommittee Meeting, September 15, 2015, 1 p.m.-4 p.m. (MST)

Planning Management Committee Meeting, September 16, 2015, 9 a.m.-3 p.m. (MST)

The above-referenced meetings will be held at:

Arizona Public Service Company, 2124 W Cheryl Dr., Phoenix, AZ 85021.

The above-referenced meetings will be available via web conference and teleconference.

The above-referenced meetings are open to stakeholders.

Further information may be found at http://www.westconnect.com/index.php.

The discussions at the meetings described above may address matters at issue in the following proceedings:

ER13-75, Public Service Company of Colorado

ER13-77, Tucson Electric Power Company

ER13-78, UNS Electric, Inc.

ER13-79, Public Service Company of New Mexico

ER13-82, Arizona Public Service Company

ER13-91, El Paso Electric Company

ER13-96, Black Hills Power, Inc.

ER13-97, Black Hills Colorado Electric Utility Company, LP

ER13-120, Cheyenne Light, Fuel, & Power Company

ER15-428, NV Energy, Inc.

ER15-411, Arizona Public Service Company

For more information contact Gabriel Aguilera, Office of Energy Market Regulation, Federal Energy Regulatory Commission at (202) 502-8489 or gabriel.aguilera@ferc.gov.

Dated: September 1, 2015
Kimberly D. Bose,
Secretary.

[FR Doc. 2015-22515 Filed 9-4-15; 8:45 am]

BILLING CODE 6717-01-P